SECURITIES AND EXCHANGE COMMISSION

[Release No. IC-27962]

Notice of Applications for Deregistration Under Section 8(f) of the Investment Company Act of 1940

August 31, 2007.

The following is a notice of applications for deregistration under section 8(f) of the Investment Company Act of 1940 for the month of August, 2007. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on September 25, 2007, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE., Washington, DC 20549-1090.

FOR FURTHER INFORMATION CONTACT: Diane L. Titus at (202) 551-6810, SEC, Division of Investment Management, Office of Investment Company Regulation, 100 F Street, NE., Washington, DC 20549-4041.

Alliance World Dollar Government Fund, Inc. [File No. 811-7108]

Summary: Applicant, a closed-end investment company, seeks an order declaring that it has ceased to be an investment company. On April 13, 2007, applicant transferred its assets to AllianceBernstein Global High Income Fund, Inc., based on net asset value. Expenses of $268,815 incurred in connection with the reorganization were paid by applicant.

Filing Dates: The application was filed on July 24, 2007, and amended on August 24, 2007.

Applicant's Address: 1345 Avenue of the Americas, New York, NY 10105.

Alliance Global Environment Fund, Inc. [File No. 811-5993]

Summary: Applicant seeks an order declaring that it has ceased to be an investment company. On July 31, 2000, applicant made a liquidating distribution to its shareholders, based on net asset value. Expenses of $50,000 incurred in connection with the liquidation were paid by Alliance Capital Management L.P., applicant's investment adviser.

Filing Date: The application was filed on July 25, 2007.

Applicant's Address: 1345 Avenue of the Americas, New York, NY 10105.

First American Strategic Income Portfolio Inc. [File No. 811-21271]

Summary: Applicant, a closed-end investment company, seeks an order declaring that it has ceased to be an investment company. Applicant has never made a public offering of its securities and does not propose to make a public offering or engage in business of any kind.

Filing Date: The application was filed on July 18, 2007.

Applicant's Address: c/o FAF Advisors, Inc., BC-MN-HO5F, U.S. Bancorp Center, 800 Nicollet Mall, Minneapolis, MN 55402.

Highland Corporate Opportunities Fund [File No. 811-21766]

Summary: Applicant, a closed-end investment company, seeks an order declaring that it has ceased to be an investment company. On December 22, 2006, all of applicant's shareholders other than Highland Capital Management, L.P. (“Highland”), applicant's investment adviser, sold their shares to Highland at net asset value. Subsequently, applicant also made in kind and cash distributions to Highland on December 22, 2006. All of applicant's outstanding preferred shares were redeemed on December 21, 2006. Expenses of approximately $37,517 incurred in connection with the liquidation were paid by applicant.

Filing Date: The application was filed on July 19, 2007.

Applicant's Address: Two Galleria Tower, 13455 Noel Rd., Suite 800, Dallas, TX 75240.

Prudential Pacific Growth Fund, Inc. [File No. 811-6391]

Summary: Applicant seeks an order declaring that it has ceased to be an investment company. On November 23, 2003, applicant transferred its assets to Jennison Global Growth Fund, a series of Prudential World Fund, Inc., based on net asset value. Expenses of approximately $91,887 incurred in connection with the reorganization were paid by applicant.

Filing Dates: The application was filed on July 3, 2007, and amended on July 26, 2007.

Applicant's Address: Gateway Center Three, 100 Mulberry St., Newark, NJ 07102-4077.

J.P. Morgan Fleming Series Trust [File No. 811-21276]

Summary: Applicant seeks an order declaring that it has ceased to be an investment company. On April 27, 2007, applicant made a liquidating distribution to its shareholders, based on net asset value. Expenses of $19,550 incurred in connection with the liquidation were paid by applicant's investment adviser, J.P. Morgan Investment Management Inc., and its affiliates.

Filing Dates: The application was filed on June 29, 2007, and amended on August 16, 2007.

Applicant's Address: 245 Park Ave., New York, NY 10167.

Torrey Multi-Strategy Partners, LLC [File No. 811-21068]

Summary: Applicant, a closed-end investment company, seeks an order declaring that it has ceased to be an investment company. Applicant has never made a public offering of its securities and does not propose to make a public offering or engage in business of any kind.

Filing Dates: The application was filed on June 18, 2007, and amended on July 24, 2007.

Applicant's Address: 505 Park Ave., Fifth Floor, New York, NY 10022.

The Valiant Fund [File No. 811-7582]

Summary: Applicant seeks an order declaring that it has ceased to be an investment company. On June 29, 2007, applicant made a liquidating distribution to its shareholders, based on net asset value. Expenses of approximately $512,851 incurred in connection with the liquidation were paid by The Dreyfus Corporation.

Filing Dates: The application was filed on July 2, 2007, and amendments thereto on July 27, 2007 and August 22, 2007.

Applicant's Address: c/o The Bank of New York, 101 Barclay St., New York, NY 10286.

Oppenheimer High Yield Fund [File No. 811-2849]

Summary: Applicant seeks an order declaring that it has ceased to be an investment company. On October 13, 2006, applicant transferred its assets to Oppenheimer Champion Income Fund, based on net asset value. Expenses of $87,650 incurred in connection with the reorganization were paid by applicant.

Filing Date: The application was filed on July 11, 2007.

Applicant's Address: 6803 S. Tucson Way, Centennial, CO 80112.

Equipointe Funds [File No. 811-21508]

Summary: Applicant seeks an order declaring that it has ceased to be an investment company. On April 13, 2007, applicant made a liquidating distribution to its shareholders, based on net asset value. Expenses of $18,045 incurred in connection with the liquidation were paid by Summit Wealth Management, Inc., applicant's investment adviser.

Filing Dates: The application was filed on June 14, 2007, and amended on August 23, 2007.

Applicant's Address: c/o Gemini Fund Services, LLC, 450 Wireless Blvd., Hauppauge, NY 11788.

First Investors Cash Management Fund, Inc. [File No. 811-2860]

Summary: Applicant seeks an order declaring that it has ceased to be an investment company. On January 27, 2006, applicant transferred its assets to First Investors Income Funds, based on net asset value. Expenses of approximately $58,921 incurred in connection with the reorganization were paid by applicant.

Filing Dates: The application was filed on July 2, 2007, and amended on August 23, 2007.

Applicant's Address: 95 Wall St., New York, NY 10005.

Capitol Life Separate Account M [File No. 811-2873]

Summary: Applicant, a unit investment trust, seeks an order declaring that it has ceased to be an investment company. On December 5, 2006, applicant's board voted to approve abandonment of registration because (1) Applicant's sole purpose is to support certain outstanding variable annuity contracts (VA Contracts) issued in 1981 or earlier by depositor Capitol Life Insurance Company, and (2) there are only 95 beneficial owners of such VA Contracts remaining. Applicant will continue to operate as an unregistered separate account in reliance on Section 3(c)(1) of the 1940 Act until Applicant has no securities remaining outstanding because no VA Contracts remain outstanding. Applicant is not presently making a public offering of its securities and does not propose to make a public offering.

Filing Dates: The application was filed on May 21, 2007, and amended on August 1, 2007.

Applicant's Address: 1658 Cole Blvd., Suite 208, Golden, Colorado 80401.

For the Commission, by the Division of Investment Management, pursuant to delegated authority.
Florence E. Harmon,
Deputy Secretary.

[FR Doc. E7-17673 Filed 9-6-07; 8:45 am]

BILLING CODE 8010-01-P